DEPARTMENT OF ENERGY

Federal Energy Regulatory Commission

Combined Notice of Filings #2

Take notice that the Commission received the following exempt wholesale generator filings:

Docket Numbers: EG18-131-000.

Applicants: Willow Springs Solar, LLC.

Description: Notice of Self-Certification of Exempt Wholesale Generator Status of Willow Springs Solar, LLC.

Filed Date: 9/28/18.

Accession Number: 20180928-5135.

Comments Due: 5 p.m. ET 10/19/18.

Docket Numbers: EG18-132-000.

Applicants: Cypress Creek Fund 12 Tenant, LLC.

Description: Notice of Self-Certification of Exempt Wholesale Generator Status of Cypress Creek Fund 12 Tenant, LLC.

Filed Date: 9/28/18.

Accession Number: 20180928-5237.

Comments Due: 5 p.m. ET 10/19/18.

Take notice that the Commission received the following electric rate filings:

Docket Numbers: ER18-370-001.

Applicants: Southern California Edison Company.

Description: Compliance filing: SCE Compliance Filing Amended Appendix XI to TO Tariff, ER18-370 to be effective 9/1/2018.

Filed Date: 9/28/18.

Accession Number: 20180928-5084.

Comments Due: 5 p.m. ET 10/19/18.

Docket Numbers: ER18-2448-001.

Applicants: Robindale Retail Power Services, LLC.

Description: Tariff Amendment: Addendum to Market-Based Rate Notice of Change in Status to be effective 9/29/2018.

Filed Date: 9/28/18.

Accession Number: 20180928-5183.

Comments Due: 5 p.m. ET 10/19/18.

Docket Numbers: ER18-2495-001.

Applicants: PacifiCorp.

Description: Tariff Amendment: Amendment to SA 907 Orion Wind E&P to be effective 9/19/2018.

Filed Date: 9/28/18.

Accession Number: 20180928-5087.

Comments Due: 5 p.m. ET 10/19/18.

Docket Numbers: ER18-2505-000.

Applicants: Willow Springs Solar, LLC.

Description: § 205(d) Rate Filing: Filing of Rattlesnake Shared Facilities Agreement to be effective 10/14/2018.

Filed Date: 9/28/18.

Accession Number: 20180928-5114.

Comments Due: 5 p.m. ET 10/19/18.

Docket Numbers: ER18-2506-000.

Applicants: ISO New England Inc.

Description: § 205(d) Rate Filing: ISO-NE Filing to Update Eff. Date of Previously Accepted Revisions to Sec III.14 to be effective 12/1/2018.

Filed Date: 9/28/18.

Accession Number: 20180928-5162.

Comments Due: 5 p.m. ET 10/19/18.

Docket Numbers: ER18-2507-000.

Applicants: Alabama Power Company.

Description: § 205(d) Rate Filing: OATT Amendment Filing (Exhibit K-9—remove OVEC from SERTP) to be effective 12/1/2018.

Filed Date: 9/28/18.

Accession Number: 20180928-5165.

Comments Due: 5 p.m. ET 10/19/18.

Docket Numbers: ER18-2508-000.

Applicants: Louisville Gas and Electric Company.

Description: § 205(d) Rate Filing: Att K Appendix 11 Revision to be effective 12/1/2018.

Filed Date: 9/28/18.

Accession Number: 20180928-5169.

Comments Due: 5 p.m. ET 10/19/18.

Docket Numbers: ER18-2509-000.

Applicants: Duke Energy Carolinas, LLC.

Description: § 205(d) Rate Filing: Joint OATT Amendment: OVEC's Withdrawal from SERTP to be effective 12/1/2018.

Filed Date: 9/28/18.

Accession Number: 20180928-5170.

Comments Due: 5 p.m. ET 10/19/18.

Docket Numbers: ER18-2510-000.

Applicants: The Potomac Edison Company, Mid-Atlantic Interstate Transmission, LLC.

Description: Incentive Rate Application for PJM RTEP Project 9A of The Potomac Edison Company, et al.

Filed Date: 9/28/18.

Accession Number: 20180928-5187.

Comments Due: 5 p.m. ET 10/19/18.

Docket Numbers: ER18-2511-000.

Applicants: NorthWestern Corporation.

Description: Baseline eTariff Filing: New Baseline—NorthWestern Corporation Market-Based Rate Tariff to be effective 10/1/2018.

Filed Date: 9/28/18.

Accession Number: 20180928-5191.

Comments Due: 5 p.m. ET 10/19/18.

Docket Numbers: ER18-2512-000.

Applicants: PacifiCorp.

Description: § 205(d) Rate Filing: WI Unscheduled Flow Mitigation Plan Rev 3 to be effective 8/1/2018.

Filed Date: 9/28/18.

Accession Number: 20180928-5198.

Comments Due: 5 p.m. ET 10/19/18.

Docket Numbers: ER18-2513-000.

Applicants: Midcontinent Independent System Operator, Inc.

Description: Compliance filing: 2018-09-28_Compliance Filing to Address Self-Fund EL15-68; EL15-36; ER16-696 to be effective 7/10/2018.

Filed Date: 9/28/18.

Accession Number: 20180928-5214.

Comments Due: 5 p.m. ET 10/19/18.

Docket Numbers: ER18-2514-000.

Applicants: Midcontinent Independent System Operator, Inc.

Description: § 205(d) Rate Filing: 2018-09-28_Attachment FF Revisions to TMEP to be effective 11/28/2018.

Filed Date: 9/28/18.

Accession Number: 20180928-5229.

Comments Due: 5 p.m. ET 10/19/18.

Docket Numbers: ER18-2515-000.

Applicants: NorthWestern Corporation.

Description: Tariff Cancellation: Cancellation of MBR Tariff under Tariff ID 28 to be effective 10/1/2018.

Filed Date: 9/28/18.

Accession Number: 20180928-5232.

Comments Due: 5 p.m. ET 10/19/18.

Docket Numbers: ER18-2516-000.

Applicants: Willow Springs Solar, LLC.

Description: § 205(d) Rate Filing: Application for Market-Based Rate Authority to be effective 10/14/2018.

Filed Date: 9/28/18.

Accession Number: 20180928-5233.

Comments Due: 5 p.m. ET 10/19/18.

Docket Numbers: ER18-2517-000.

Applicants: Sunbury Generation LP.

Description: § 205(d) Rate Filing: Addendum to Market-Based Rate Notice of Change in Status to be effective 9/29/2018.

Filed Date: 9/28/18.

Accession Number: 20180928-5236.

Comments Due: 5 p.m. ET 10/19/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 28, 2018.
Nathaniel J. Davis, Sr.,
Deputy Secretary.

[FR Doc. 2018-21744 Filed 10-4-18; 8:45 am]

BILLING CODE 6717-01-P